DEPARTMENT OF HEALTH AND HUMAN SERVICES

Centers for Disease Control and Prevention

[30Day-08-08AC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 371-5960 or send an e-mail to omb@cdc.gov. Send written comments to CDC Desk Officer, Office of Management and Budget, Washington, DC or by fax to (202) 395-6974. Written comments should be received within 30 days of this notice.

Proposed Project

Racial and Ethnic Approaches to Community Health across the U.S. (REACH US) Evaluation—NEW—National Center for Chronic Disease Prevention and Health Promotion (NCCDPHP), Centers for Disease Control and Prevention (CDC).

Background and Brief Description

Minority populations in the U.S. experience health disparities and excess deaths due to the burden of disease. Analysis has shown that more than eighty percent of excess deaths in minority populations are accounted for by six disease areas: Cardiovascular disease, diabetes, asthma, infant mortality, breast and cervical cancer, and diseases that can be prevented through immunization. In response, CDC has funded a national, multi-level community intervention program to eliminate health disparities in specific priority areas, entitled “Racial and Ethnic Approaches to Community Health across the U.S. (REACH US).” The REACH US program will serve communities with African American, American Indian, Hispanic American, Asian American, and Pacific Islander citizens. The REACH US program extends previous CDC-funded efforts funded through the related REACH 2010 program, and is part of the Department of Health and Human Services' response to the President's Race Initiative and to the Healthy People 2010 goal of eliminating health disparities in the health status of racial and ethnic minorities.

REACH US will help to continue assessing the prevalence of self-reported risk behaviors associated with cardiovascular disease, diabetes, health disparities in infant mortality, deficits in breast and cervical cancer screening and management, and deficits in adult immunizations. Annual surveys will be conducted in 29 REACH US communities using Computer-Assisted Telephone Interview (CATI) methodology. Information will be collected from 900 respondents in each participating community. The REACH US questionnaire is modeled on the questionnaire previously fielded through the REACH 2010 evaluation, and contains questions that are standard public health performance measures for each health priority area.

There are no costs to respondents except their time to participate in the survey. The total estimated annualized burden hours are 9,875.

Estimated Annualized Burden Hours
Type of respondents | Form name | No. of respondents | No. of responses per respondent | Average burden per response (in hours)
Adults ages 18 and older who live in communities participating in the REACH US Program | Introductory Screening Interview | 100,500 | 1 | 2/60
| Household Member Interview | 26,100 | 1 | 15/60

Dated: March 28, 2008.
Maryam I. Daneshvar,
Acting Reports Clearance Officer, Centers for Disease Control and Prevention.

[FR Doc. E8-7566 Filed 4-9-08; 8:45 am]

BILLING CODE 4163-18-P